DEPARTMENT OF HOMELAND SECURITY

Federal Emergency Management Agency

[Docket ID: FEMA-2022-0044; OMB No. 1660-0029]

Agency Information Collection Activities: Proposed Collection; Comment Request; Request for Use of NETC Facilities

AGENCY: Federal Emergency Management Agency, Department of Homeland Security.

ACTION: 60-Day notice of revision and request for comments.

SUMMARY: The Federal Emergency Management Agency (FEMA), as part of its continuing effort to reduce paperwork and respondent burden, invites the general public to take this opportunity to comment on this extension with change of a currently approved information collection. In accordance with the Paperwork Reduction Act of 1995, this notice seeks comments concerning the removal of use of the FEMA Form FF-USFA-FY-21-108 (formerly 119-17-2), Request for Use of NETC Facilities due to its antiquated information collection method and requirement. There is no longer a need to formally require the use of this form in order for a requestor to receive support for special groups using the National Emergency Training Center (NETC).

DATES: Comments must be submitted on or before January 24, 2023.

ADDRESSES: To avoid duplicate submissions to the docket, please submit comments at www.regulations.gov under Docket ID FEMA-2022-0044. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Merril Sollenberger, Administrative Specialist, FEMA, U.S. Fire Administration, 301-447-1179, or at merril.sollenberger@fema.dhs.gov. You may contact the Information Management Division for copies of the proposed collection of information at email address: FEMA-Information-Collections-Management@fema.dhs.gov.

SUPPLEMENTARY INFORMATION: The Robert T. Stafford Disaster Relief and Emergency Assistance Act (Stafford Act) (42 U.S.C. 5121-5207) authorizes the President to establish a program of disaster preparedness that utilizes services of all appropriate agencies and includes training and exercises. Section 611 of the Stafford Act (42 U.S.C. 5196) provides that the Federal Emergency Management Agency (FEMA) may conduct training for the purpose of emergency preparedness. In response, FEMA established the National Emergency Training Center (NETC), located in Emmitsburg, Maryland. The NETC site has facilities and housing available for those participating in preparedness training and a request for use of these areas is required to be made in advance for the need for such. The primary means of making advanced requests for use of space at NETC is the use of email communication and this typically includes the specifics for the use of NETC for date of arrival and departure, how many participants, the requirement for lodging to include how many people, room space required, meals required, and equipment needed. These items that were required to be captured by completing the Request For Use of NETC Facilities Form are now captured within the content of the email communication. The secondary means of making requests to use NETC space is by telephone communication and those requirements are discussed in that manner.

The NETC is a FEMA facility which houses all FEMA employees at headquarters, regions, field establishments, and other individuals and organizations authorized to use the facilities. The responsibilities, procedures, and potential fees charged for using the NETC facilities are identified in accordance with FEMA Directive Number 119-3, Facility Use and Expenses at the National Emergency Training Center dated May 21, 2018. The NETC provides training and educational programs in emergency response, preparedness, fire prevention and control, disaster response, and long-term disaster recovery. The principal purpose of FEMA Form FF-USFA-FY-21-107 (formerly 119-17-1), Request for Housing Accommodations, is to request housing at the NETC, and the principal purpose of FEMA Form FF-USFA-FY-21-108 (formerly 119-17-2), Request for Use of NETC Facilities, is to conduct official business at the NETC.

In accordance with the Paperwork Reduction Act of 1995, this notice seeks comments concerning the removal of use of the FEMA Form FF-USFA-FY-21-108 (formerly 119-17-2), Request For Use of NETC Facilities, due to its antiquated information collection method and requirement. There is no longer a need to formally require the use of this form in order for a requestor to receive support for special groups using the NETC.

Collection of Information

Title: Approval and Coordination of Requirements to Use the NETC Extracurricular for Training Activities.

Type of Information Collection: Extension, with change, of a currently approved collection.

OMB Number: 1660-0029.

FEMA Forms: FEMA Form FF-USFA-FY-21-107 (formerly 119-17-1), Request for Housing Accommodations.

Abstract: In accordance with FEMA Directive 119-3: Facility Use and Expenses at the National Emergency Training Center dated May 21, 2018, FEMA Form USFA-FY-21-107 (formerly 119-17-1), Request for Housing Accommodations, has been applied for functions at NETC.

Affected Public: Individuals or households, Not-for-profit institutions, Federal Government.

Estimated Number of Respondents: 60.

Estimated Number of Responses: 60.

Estimated Total Annual Burden Hours: 6.

Estimated Total Annual Respondent Cost: $182.

Estimated Respondents' Operation and Maintenance Costs: $0.

Estimated Respondents' Capital and Start-Up Costs: $0.

Estimated Total Annual Cost to the Federal Government: $841.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-25739 Filed 11-23-22; 8:45 am]

BILLING CODE 9111-45-P